DEPARTMENT OF COMMERCE

International Trade Administration

[A-570-133]

Certain Metal Lockers and Parts Thereof From the People's Republic of China: Preliminary Results and Partial Rescission of Antidumping Duty Administrative Review; 2021-2022

AGENCY: Enforcement and Compliance, International Trade Administration, Department of Commerce.

SUMMARY: The U.S. Department of Commerce (Commerce) preliminarily finds that certain exporters made sales of certain metal lockers and parts thereof (metal lockers) from the People's Republic of China (China) during the period of review (POR), February 11, 2021, through July 31, 2022. Additionally, Commerce is rescinding this review with respect to Hangzhou Zhuoxu Trading Co. Ltd. (Hangzhou Zhuoxu). Interested parties are invited to comment on these preliminary results.

DATES: Applicable September 8, 2023.

FOR FURTHER INFORMATION CONTACT: Deborah Cohen or Matthew Palmer, AD/CVD Operations, Office III, Enforcement and Compliance, International Trade Administration, U.S. Department of Commerce, 1401 Constitution Avenue NW, Washington, DC 20230; telephone: (202) 482-4521 or (202) 482-1678, respectively.

SUPPLEMENTARY INFORMATION:

Background

On August 20, 2021, Commerce published in the Federal Register the antidumping duty order on metal lockers from China.¹ On August 2, 2022, Commerce published in the Federal Register a notice of opportunity to request administrative reviews of the Order.² On October 11, 2022, in accordance with 19 CFR 351.221(c)(1)(i), Commerce published a notice of initiation for this administrative review in response to requests to review by interested parties.³ On March 28, 2023, we extended the deadline for these preliminary results, in accordance with section 751(a)(3)(A) of the Tariff Act of 1930, as amended (the Act), and 19 CFR 351.213(h)(2), until August 31, 2023.

¹ See Certain Metal Lockers and Parts Thereof From the People's Republic of China: Antidumping and Countervailing Duty Orders, 86 FR 46826 (August 20, 2021) (Order).

² See Antidumping or Countervailing Duty Order, Finding, or Suspended Investigation; Opportunity To Request Administrative Review and Join Annual Inquiry Service List, 87 FR 47187 (August 2, 2022).

³ See Initiation of Antidumping and Countervailing Duty Administrative Reviews, 87 FR 61278 (October 11, 2022). (Initiation Notice).

For a complete description of the events that followed the initiation of this administrative review, see the Preliminary Decision Memorandum.⁴ A list of topics included in the Preliminary Decision Memorandum is included as an appendix to this notice. The Preliminary Decision Memorandum is a public document and is on file electronically via Enforcement and Compliance's Antidumping and Countervailing Duty Centralized Electronic Service System (ACCESS). ACCESS is available to registered users at https://access.trade.gov. In addition, a complete version of the Preliminary Decision Memorandum can be found at https://access.trade.gov/public/FRNoticesListLayout.aspx.

⁴ See Memorandum, “Decision Memorandum for the Preliminary Results of the Antidumping Duty Administrative Review of Certain Metal Lockers and Parts Thereof from the People's Republic of China, 2021-2022,” dated concurrently with this notice (Preliminary Decision Memorandum).

Scope of the Order

The products covered by the Order are metal lockers from China. For a complete description of the Order, see the Preliminary Decision Memorandum.

Partial Rescission of Review

Pursuant to 19 CFR 351.213(d)(1), based on the timely withdrawal of the sole request for review, we are rescinding this administrative review with respect to the following company named in the Initiation Notice: Hangzhou Zhuoxu.⁵

⁵ See Hangzhou Zhuoxu's Letter, “Withdrawal of Administrative Review Request,” dated November 1, 2022.

Separate Rates

Commerce preliminarily determines that three non-individually examined companies are eligible for separate rates in this administrative review.⁶ The Act and Commerce's regulations do not address the establishment of a separate rate to be applied to companies not selected for individual examination when Commerce limits its examination in an administrative review pursuant to section 777A(c)(2) of the Act. Generally, Commerce looks to section 735(c)(5) of the Act, which provides instructions for calculating the all-others rate in an investigation, for guidance when calculating the rate for separate-rate respondents which Commerce did not examine individually in an administrative review. Section 735(c)(5)(A) of the Act states that the all-others rate should be calculated by averaging the weighted-average dumping margins calculated for individually-examined respondents, excluding dumping margins that are zero, de minimis, or based entirely on facts available. For the preliminary results of this review, Commerce determined the estimated dumping margins for ZXM/XMT and Hangzhou Evernew to be 76.95 percent and 288.06 percent, respectively. As explained in the Preliminary Decision Memorandum, we are preliminarily assigning a rate of 94.13 percent to the three non-examined respondents: Kunshan Dongchu Precision Machinery Co., Ltd., Tianjin Jia Mei Metal Furniture Ltd, and Zhejiang Focus-On Import & Export Co., Ltd., which qualify for a separate rate in this review, consistent with Commerce's practice and section 735(c)(5)(A) of the Act.

⁶ See Preliminary Decision Memorandum at the “Separate Rate Determination” section for more details.

The China-Wide Entity

Under Commerce's policy regarding the conditional review of the China-wide entity,⁷ the China-wide entity will not be under review unless a party specifically requests, or Commerce self-initiates, a review of the entity. Because no party requested a review of the China-wide entity in this review, the entity is not under review, and the entity's rate (i.e., 322.25 percent) is not subject to change.

⁷ See Antidumping Proceedings: Announcement of Change in Department Practice for Respondent Selection in Antidumping Duty Proceedings and Conditional Review of the Nonmarket Economy Entity in NME Antidumping Duty Proceedings, 78 FR 65963 (November 4, 2013).

Methodology

Commerce is conducting this review in accordance with section 751(a)(1)(B) of the Act. Commerce has calculated export prices in accordance with section 772(a) of the Act and constructed export prices in accordance with section 772(b) of the Act. Because China is a non-market economy, within the meaning of section 771(18) of the Act, Commerce has calculated normal value (NV) in accordance with section 773(c) of the Act. For a full description of the methodology underlying Commerce's preliminary results, see the Preliminary Decision Memorandum.

Preliminary Results of Review

We preliminarily determine that the following estimated weighted-average dumping margins exist for the period February 11, 2021, through July 31, 2022:

Exporter | Weighted- average dumping margin (percent)
Zhejiang Xingyi Metal Products Co., Ltd and Xingyi Metalworking Technology (Zhejiang) Co., Ltd | 76.95
Hangzhou Evernew Machinery & Equipment Company Limited/Zhejiang Yinghong Metalworks Co., Ltd ⁸ | 239.33
Kunshan Dongchu Precision Machinery Co., Ltd | 96.31
Tianjin Jia Mei Metal Furniture Ltd | 96.31
Zhejiang Focus-On Import & Export Co., Ltd | 96.31

Disclosure and Public Comment

We intend to disclose to interested parties the calculations performed for these preliminary results in accordance with 19 CFR 351.224(b). Interested parties may submit case briefs no later than 30 days after the date of publication of these preliminary results of review.⁹ Rebuttal briefs, limited to issues raised in case briefs, may be submitted no later than seven days after the deadline date for case briefs.¹⁰ Pursuant to 19 CFR 351.309(c)(2) and (d)(2), parties who submit case briefs or rebuttal briefs in this review are encouraged to submit with each argument: (1) a statement of the issue; (2) a brief summary of the argument; and (3) a table of authorities. Executive summaries should be limited to five pages total, including footnotes. Case and rebuttal briefs should be filed using ACCESS.¹¹ Note that Commerce has modified certain of its requirements for serving documents containing business proprietary information, until further notice.¹²

⁸ We preliminarily find that Hangzhou Evernew and its producer, Zhejiang Yinghong Metalworks Co., Ltd., are affiliated, pursuant to section 771(33)(F) of the Act and 19 CFR 351.102(b)(3) and should be treated as a single entity pursuant to 19 CFR 351.401(f)(1) for the purposes of these preliminary results. See Preliminary Decision Memorandum at Section V. “Single Entity Analysis” for further discussion of the preliminary collapsing determination.

⁹ See 19 CFR 351.309(c).

¹⁰ See 19 CFR 351.309(d); see also Temporary Rule Modifying AD/CVD Service Requirements Due to COVID-19, 85 FR 17006, 17007 (March 26, 2020) (“To provide adequate time for release of case briefs via ACCESS, E&C intends to schedule the due date for all rebuttal briefs to be 7 days after case briefs are filed (while these modifications remain in effect.”).

¹¹ See, generally, 19 CFR 351.303.

¹² See Temporary Rule Modifying AD/CVD Service Requirements Due to COVID-19; Extension of Effective Period, 85 FR 41363 (July 10, 2020).

Pursuant to 19 CFR 351.310(c), interested parties who wish to request a hearing, limited to issues raised in the case and rebuttal briefs, must submit a written request to the Assistant Secretary for Enforcement and Compliance, U.S. Department of Commerce, filed electronically via Commerce's electric records system, ACCESS. An electronically-filed request must be received successfully in its entirety by 5:00 p.m. Eastern Time within 30 days after the date of publication of this notice.¹³ Requests should contain the party's name, address, and telephone number, the number of participants, whether any participant is a foreign national, and a list of the issues to be discussed. If a request for a hearing is made, Commerce intends to hold the hearing at a time and date to be determined.¹⁴ Parties should confirm by telephone the date and time of the hearing two days before the scheduled date.

¹³ See 19 CFR 351.310(c).

¹⁴ See 19 CFR 351.310(d).

Unless otherwise extended, we intend to issue the final results of this administrative review, which will include the results of our analysis of the issues raised in the case and rebuttal briefs, within 120 days of publication of these preliminary results in the Federal Register, pursuant to section 751(a)(3)(A) of the Act and 19 CFR 351.213(h).

Assessment Rates

Upon issuance of the final results, Commerce will determine, and CBP shall assess, antidumping duties on all appropriate entries covered by this review, in accordance with 19 CFR 351.212(b)(1). Commerce intends to issue assessment instructions to CBP 35 days after the publication of the final results of this review. If a timely summons is filed at the U.S. Court of International Trade, the assessment instructions will direct CBP not to liquidate relevant entries until the time for parties to file a request for a statutory injunction has expired (i.e., within 90 days of publication).

We will calculate importer/customer-specific assessment rates equal to the ratio of the total amount of dumping calculated for examined sales to a particular importer/customer to the total entered value of those sales, in accordance with 19 CFR 351.212(b)(1).¹⁵ Where the respondents reported reliable entered values, Commerce intends to calculate importer/customer-specific ad valorem assessment rates by dividing the total amount of dumping calculated for all reviewed U.S. sales to the importer/customer by the total entered value of the merchandise sold to the importer/customer.¹⁶ Where the respondents did not report entered values, Commerce will calculate importer/customer-specific assessment rates by dividing the total amount of dumping calculated for all reviewed U.S. sales to the importer/customer by the total quantity of those sales. Commerce will calculate an estimated ad valorem importer/customer-specific assessment rate to determine whether the per-unit assessment rate is de minimis; however, Commerce will use the per-unit assessment rate where entered values were not reported.¹⁷ Where an importer/customer-specific ad valorem assessment rate is not zero or de minimis, Commerce will instruct CBP to collect the appropriate duties at the time of liquidation. Where either the respondents' ad valorem weighted-average dumping margin is zero or de minimis, or an importer/customer-specific ad valorem assessment rate is zero or de minimis,¹⁸ Commerce will instruct CBP to liquidate the appropriate entries without regard to ADs.

¹⁵ In these preliminary results, Commerce applied the assessment rate calculation method adopted in Antidumping Proceedings: Calculation of the Weighted-Average Dumping Margin and Assessment Rate in Certain Antidumping Proceedings: Final Modification, 77 FR 8101 (February 14, 2012).

¹⁶ See 19 CFR 351.212(b)(1).

¹⁷ Id.

¹⁸ See 19 CFR 351.106(c)(2).

Pursuant to Commerce's refinement to its practice, for sales that were not reported in the U.S. sales database submitted by a respondent individually examined during this review, Commerce will instruct CBP to liquidate the entry of such merchandise at the dumping margin assigned to the China-wide entity.¹⁹ For respondents not individually examined in this administrative review that qualified for a separate rate, the assessment rate will be equal to the weighted-average dumping margin assigned to the respondent in the final results of this review.²⁰

¹⁹ For a full discussion of this practice, see Non-Market Economy Antidumping Proceedings: Assessment of Antidumping Duties, 76 FR 65694 (October 24, 2011).

²⁰ See, e.g., Drawn Stainless Steel Sinks from the People's Republic of China: Preliminary Results of the Antidumping Duty Administrative Review and Preliminary Determination of No Shipments: 2014-2015, 81 FR 29528 (May 12, 2016), and accompanying PDM at 10-11, unchanged in Drawn Stainless Steel Sinks from the People's Republic of China: Final Results of Antidumping Duty Administrative Review; Final Determination of No Shipments; 2014-2015, 81 FR 54042 (August 15, 2016).

In accordance with section 751(a)(2)(C) of the Act, the final results of this review shall be the basis for the assessment of ADs on entries of merchandise covered by the final results of this review and for future deposits of estimated ADs, where applicable.

Cash Deposit Requirements

The following cash deposit requirements will be effective upon publication of the final results of this review for all shipments of the subject merchandise from China entered, or withdrawn from warehouse, for consumption on or after the date of publication of the notice of the final results of administrative review in the Federal Register, as provided for by section 751(a)(2)(C) of the Act: (1) for the companies that have a separate rate, the cash deposit rate will be that rate established in the final results of this review (except, if the rate is de minimis, then a cash deposit rate of zero will be required); (2) for previously investigated or reviewed Chinese and non-Chinese exporters for which a review was not requested and that received a separate rate in a prior segment of this proceeding, the cash deposit rate will continue to be the existing exporter-specific rate; (3) for all Chinese exporters of subject merchandise that have not been found to be entitled to a separate rate, the cash deposit rate will be the rate for the China-wide entity (i.e., 322.25 percent); and (4) for all non-Chinese exporters of subject merchandise that have not received their own rate, the cash deposit rate will be the rate applicable to the Chinese exporter that supplied that non-Chinese exporter. These cash deposit requirements, when imposed, shall remain in effect until further notice.

In the underlying investigation, we determined that ZXM and its affiliate, XMT, comprised a single entity pursuant to 19 CFR 351.401(f). Commerce's practice is to presume that companies continue to comprise a single entity when that finding has been made in a prior segment of the proceeding.²¹ Accordingly, we initiated upon and examined the collapsed ZXM/XMT respondent throughout the preliminary stage of this proceeding. However, as discussed in the Preliminary Decision Memorandum, we preliminarily determine that the record no longer supports a finding that ZXM should be collapsed with XMT subsequent to January 13, 2022, as ZXM ceased involvement with the production and/or exportation of subject merchandise prior to the POR, was acquired by an unrelated third-party ownership a month prior, and all indicia of affiliation and/or control between the two companies ceased as of that date. Accordingly, we continue to review the single entity for the February 11, 2021, through January 13, 2022, segment of this review and for the purposes of subsequent assessment. Therefore, should Commerce continue to determine the companies are not a single entity and XMT remains the only component of the former ZXM/XMT entity involved in the exportation of subject merchandise in the final results, we intend to assign the prospective cash deposit rate only to XMT as the exporter, and to instruct CBP to discontinue the ZXM/XMT combination rate.

²¹ See Initiation Notice. See also, e.g., China First Pencil Co., Ltd. v. United States, 427 F.Supp.2d. 1236, 1239-41 (CIT 2006) (sustaining Commerce's decision to continue collapsing companies which were found to be collapsed in a previous review, where plaintiff “failed to meet its burden of establishing that the facts and circumstances had changed sufficiently to warrant a re-examination of Commerce's decision.”).

Notification to Importers

This notice also serves as a preliminary reminder to importers of their responsibility under 19 CFR 351.402(f)(2) to file a certificate regarding the reimbursement of antidumping and/or countervailing duties prior to liquidation of the relevant entries during this review period. Failure to comply with this requirement could result in Commerce's presumption that reimbursement of antidumping and/or countervailing duties occurred and the subsequent assessment of double antidumping duties, and/or an increase in the amount of antidumping duties by the amount of the countervailing duties.

Notification to Interested Parties

We are issuing and publishing the preliminary results of this review in accordance with sections 751(a)(l) and 777(i)(l) of the Act, 19 CFR 351.213(d)(4), and 19 CFR 351.221(b)(4).

Dated: August 31, 2023.
Lisa W. Wang,
Assistant Secretary for Enforcement and Compliance.

Appendix—List of Topics Discussed in the Preliminary Decision Memorandum

I. Summary

II. Background

III. Scope of the Order

IV. Use of Partial Facts Available With Adverse Inferences

A. Application of Facts Available With Adverse Inferences

B. Selection of the AFA Rate

V. Single Entity Analysis

VI. Partial Recission of Administrative Review

VII. Discussion of the Methodology

A. Non-Market Economy Country

B. Surrogate Country and Surrogate Value Comments

C. Separate Rates

D. The China-Wide Entity

E. Date of Sale

F. Comparisons to Fair Value

G. Export Price

H. Constructed Export Price

I. Value-Added Tax

J. Normal Value

K. Factor Valuation Methodology

VIII. Currency Conversion

IX. Adjustment Under Section 777(A)(F) of the Act

X. Recommendation

[FR Doc. 2023-19389 Filed 9-7-23; 8:45 am]

BILLING CODE 3510-DS-P